DEPARTMENT OF STATE

[Public Notice 9724]

U.S. Department of State Advisory Committee on Private International Law: Public Meeting on Micro-, Small-, and Medium Sized Enterprises

The Office of the Assistant Legal Adviser for Private International Law, Department of State, gives notice of a public meeting to discuss ongoing work in the United Nations Commission on International Trade Law (UNCITRAL) related to micro, small, and medium sized enterprises. The public meeting will take place on Thursday, September 29, 2016, from 9:30 a.m. until 12:00 p.m. EDT. This is not a meeting of the full Advisory Committee.

In 2013 UNCITRAL established a working group aimed at reducing the legal obstacles faced by MSMEs throughout their life cycle, and in particular those in developing countries. UNCITRAL further directed that the work should start with a focus on the legal issues surrounding the simplification of incorporation. At its upcoming session, the UNCITRAL MSME Working Group will consider draft recommendations on a legislative guide for a limited liability organization (UN Doc. A/CN.9/WG.I/WP.99 and Add.1). The draft text, along with the reports of earlier sessions of the Working Group are available at http://www.uncitral.org/uncitral/en/index.html.

Time and Place: The meeting will take place on Thursday September 29, 2016, from 9:30 a.m. until 12:00 p.m. via a teleconference. Those who cannot participate but wish to comment are welcome to do so by email to Mike Dennis at DennisMJ@state.gov.

Public Participation: This meeting is open to the public. If you would like to participate by telephone, please email pil@state.gov to obtain the call-in number and other information.

Dated: September 12, 2016.
Michael J. Dennis,
Attorney-Adviser, Office of Private International Law, Office of the Legal Adviser, U.S. Department of State.

[FR Doc. 2016-22491 Filed 9-16-16; 8:45 am]

BILLING CODE 4710-08-P